DEPARTMENT OF HEALTH AND HUMAN SERVICES

Health Resources and Services Administration

Epilepsy Program

AGENCY: Health Resources and Services Administration, HHS.

ACTION: Notice of Noncompetitive Program Expansion Supplement Award to the Epilepsy Foundation of America.

SUMMARY: The Health Resources and Services Administration will be issuing noncompetitive supplemental funding under the Maternal and Child Health Bureau's Epilepsy Program to the Epilepsy Foundation of America (U23MC19824) to support additional evaluation activities.

SUPPLEMENTARY INFORMATION: Intended Recipient of the Award: Epilepsy Foundation of America.

Amount of the Noncompetitive Supplemental Funding: $250,700.

Authority: Section 501(a)(2) of the Social Security Act, as amended.

CFDA Number: 93.110.

Project Period: September 1, 2012, through August 31, 2013, for a total of 12 months.

Justification for the Exception to Competition: The Epilepsy Foundation of America currently contracts with Mathematica to evaluate the HRSA Epilepsy Program. There is a need to increase their allotted award through program expansion supplemental funds to support additional evaluation activities for Year 3. Mathematica will conduct a more comprehensive evaluation of the entire Epilepsy Program in order to determine the extent to which the program has addressed the legislative requirements, increased access to care in medically underserved areas, and developed/implemented evidence-based strategies to achieve the legislative purpose of the program. As a result of the evaluation, a quality improvement strategy for the Epilepsy Program will be developed and implemented by the Quality Improvement (QI) contractor. Results should provide a more comprehensive understanding of the impact across the entire program. Indicators and measures developed will also be used for the next competitive cycle to track performance, quality and outcomes within the context of the legislation and the newly published Institute of Medicine recommendations for the Epilepsies, focusing on evaluating prevention efforts.

Mathematica, John Snow Inc. (QI Contractor), and the Epilepsy Foundation of America will work collectively to develop an evaluation plan that will contain state, local, community/stakeholder and family perspectives on the overall impact of services for the Epilepsy Program.

FOR FURTHER INFORMATION CONTACT: Diana Denboba, Chief, Integrated Services Branch, Division of Services for Children with Special Health Needs, Maternal and Child Health Bureau, HRSA, 5600 Fishers Lane, Room 13-61, Rockville, Maryland 20857, via email at ddenboba@hrsa.gov or call 301-443-2370.

Dated: September 20, 2012.
Mary K. Wakefield,
Administrator.

[FR Doc. 2012-23656 Filed 9-25-12; 8:45 am]

BILLING CODE 4165-15-P